FEDERAL COMMUNICATIONS COMMISSION

47 CFR Part 73

[MB Docket No. 21-248; RM-11910; DA 21-694; FR ID 34410]

Television Broadcasting Services Staunton, Virginia

AGENCY: Federal Communications Commission.

ACTION: Proposed rule.

SUMMARY: The Commission has before it a petition for rulemaking filed by VPM Media Corporation (Petitioner), the licensee of noncommercial educational television station WVPT (PBS), channel *11, Staunton, Virginia. The Petitioner requests the substitution of channel *15 for channel *11 at Staunton in the DTV Table of Allotments.

DATES: Comments must be filed on or before July 30, 2021 and reply comments on or before August 16, 2021.

ADDRESSES: Federal Communications Commission, Office of the Secretary, 45 L Street NE, Washington, DC 20554. In addition to filing comments with the FCC, interested parties should serve counsel for the Petitioner as follows: Ari Meltzer, Esq., Wiley Rein LLP, 1776 K Street NW, Washington, DC 20006.

FOR FURTHER INFORMATION CONTACT: Joyce Bernstein, Media Bureau, at (202) 418-1647; or at Joyce.Bernstein@fcc.gov.

SUPPLEMENTARY INFORMATION: In support of its channel substitution request, the Petitioner states that the proposed channel substitution would resolve significant over the air reception problems in the WVPT service area. The Petitioner states that the challenges of digital reception are well-documented, and that the Commission has recognized the deleterious effects of manmade noise on the reception of digital VHF signals. The Petitioner also believes that the channel substitution will allow for more efficient construction of WVPT's post-incentive auction facilities. The Petitioner explains that it initially planned to retune WVPT's existing Distributed Transmission System (DTS) transmitters from channel *11 to channel *12, its repacked channel. The transmitter and antenna manufacturers, however, were unable to support the planned retuning effort. Meanwhile, a structural analysis of WVPT's existing tower revealed that it could not support a replacement antenna for VHF channel 12. According to the Petitioner, the tower can support a lighter weight UHF antenna, and thus, allowing WVPT to move to channel *15 will obviate the need to construct a new tower, saving both time and money. It further states that the proposed channel *15 facility will result in a net gain of 56,814 people, and while there is a loss area of 27,033 people, only seven people would lose their only PBS noncommercial educational service, a number the Commission considers de minimis.

This is a synopsis of the Commission's Notice of Proposed Rulemaking, MB Docket No. 21-248; RM-11910; DA 21-694, adopted June 15, 2021, and released June 15, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(i), amend the Post-Transition Table of DTV Allotments under Virginia by revising the entry for Staunton to read as follows:

§ 73.622 Digital television table of allotments.

* * * * *

(i) * * *

Community | Channel No.
* * * * *
Virginia
* * * * *
Staunton | * 15
* * * * *

[FR Doc. 2021-13564 Filed 6-29-21; 8:45 am]

BILLING CODE 6712-01-P